NATIONAL INSTITUTE FOR LITERACY

Submission for OMB Review; Comment Request

AGENCY: National Institute for Literacy (NIFL).

ACTION: Notice of information collection.

SUMMARY: The NIFL Director invites comments on the submission for OMB review as required by the Paperwork Reduction Act of 1995.

DATES: Interested persons are invited to submit comments on or before June 8, 2001.

ADDRESSES: Written comments should be addressed to the Office of Information and Regulatory Affairs, Attention: Lauren Wittenberg, Desk Officer, Department of Education, Office of Management and Budget, 725 17th Street, NW., Room 10235, New Executive Office Building, Washington, DC 20503, or should be electronically mailed to the internet address lwittenberg@omb.eop.gov.

SUPPLEMENTARY INFORMATION: Title: Application for Literacy Leader Fellowship Program.

Abstract: The National Institute for Literacy (NIFL) was created by the National Literacy Act of 1991 and amended by the Workforce Investment Act of 1998 and authorized the NIFL to award fellowships to outstanding individuals pursuing careers in adult education or literacy in the areas of instruction, management, research, or innovation. Evaluations to determine successful applications will be made by a panel of literacy experts and information specialists using the published criteria. The NIFL will use this information to issue a minimum of 2-3 fellowships for a period of up to one year.

Burden Statement: The burden for this collection of information is estimated at 52 hours per response for the first year. This estimate includes the time needed to review instructions, complete the form, and review the collection of information. No more than 2-3 applicants will be awarded a fellowship grant. Each awardee will have an annual update of the application requiring an average of 40 hours per response for each continuation year.

Respondents: Public and private nonprofit organizations.

Estimated Number of Respondents: 50.

Estimated Number of Responses Per Respondent: 1.

Estimated Total Annual Burden on Respondents: 40 hours.

Frequency of Collection: One time. Send comments regarding the burden estimate or any other aspect of the information collection, including suggestions for reducing the burden to Jennifer Cromley at the above address.

Request for Comments

Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The NIFL Director publishes that notice containing proposed information collection requests prior to submission of these requests to OMB. Each proposed information collection contains a burden statement that includes the estimated burden hours and other relevant information.

Requests for copies of the proposed information collection request may be accessed from http://www.nifl.gov/activities/fllwhome.htm or comments regarding burden and/or the collection activity requirements should be addressed to Jennifer Cromley, National Institute for Literacy, 1775 I Street, NW., Suite 730, Washington, DC 20006. Requests also may be electronically mailed to the internet jcromley@nifl.gov or faxed to 202-233-2050. Please specify the complete title of the information collection when making your request.

Dated: May 4, 2001.
Carolyn Y. Staley,
Acting Director, NIFL.

[FR Doc. 01-11646 Filed 5-8-01; 8:45 am]

BILLING CODE 6055-01-M